DEPARTMENT OF HOMELAND SECURITY

Federal Emergency Management Agency

[Docket ID FEMA-2014-0022]

Technical Mapping Advisory Council

AGENCY: Federal Emergency Management Agency, Department of Homeland Security.

ACTION: Request for applicants for appointment to the Federal Emergency Management Agency's Technical Mapping Advisory Council.

SUMMARY: The Federal Emergency Management Agency (FEMA) is requesting qualified individuals interested in serving on the Technical Mapping Advisory Council (TMAC) apply for appointment. The TMAC, as established in the Biggert-Waters Flood Insurance Reform Act of 2012, makes recommendations to the FEMA Administrator on how to improve, in a cost-effective manner, the accuracy, general quality, ease of use, distribution, and dissemination of Flood Insurance Rate Maps (FIRMs) and risk data; and to define performance metrics and milestones required to effectively and efficiently map flood risk areas in the United States. The appointments are for 3 years each and applicants will be considered for three vacancies on the TMAC.

DATES: Applications will be accepted until 11:59 p.m. ET on August 28, 2023.

ADDRESSES: Applications for membership should be submitted by one of the following methods:

• Email: FEMA-TMAC@fema.dhs.gov.

• Mail: FEMA, Federal Insurance and Mitigation Administration, Risk Management Directorate, Attn: Brian Koper, 400 C St. SW, Ste. 6NW-1412, Washington, DC 20472-3020.

FOR FURTHER INFORMATION CONTACT: Brian Koper, Designated Federal Officer for the TMAC, FEMA, Federal Insurance and Mitigation Administration, Risk Management Directorate, 400 C St. SW, Ste. 6NW-1412, Washington, DC 20472-3020, (202) 733-7859, FEMA-TMAC@fema.dhs.gov. The TMAC website is: http://www.fema.gov/TMAC.

SUPPLEMENTARY INFORMATION: The TMAC is an advisory committee established by the Biggert-Waters Flood Insurance Reform Act of 2012, 42 U.S.C. 4101a, in accordance with provisions of the Federal Advisory Committee Act (FACA), 5 U.S.C. Ch. 10 (Pub. L. 117-286). The TMAC makes recommendations to FEMA on mapping-related issues and activities, including mapping standards and guidelines, performance metrics and milestones, map maintenance, interagency and intergovernmental coordination, map accuracy, and funding strategies. In addition, the TMAC submits an annual report to the FEMA Administrator that contains: (1) a description of the activities of the Council; (2) an evaluation of the status and performance of FIRMs and mapping activities to revise and update FIRMs; and (3) a summary of recommendations made by the Council to the FEMA Administrator.

Members of the TMAC will be appointed based on their demonstrated knowledge and competence in areas such as surveying, cartography, remote sensing, geospatial information systems, or the technical aspects of preparing and using FIRMs. In order for FEMA to maximize the impact of the Council and the guidance it provides, the Council must be diverse with regard to professional and technical expertise. FEMA is committed to pursuing opportunities, consistent with applicable law, to compose a committee that reflects the diversity of the nation's people.

FEMA is requesting qualified individuals who are interested in serving on the TMAC to apply for appointment. Applicants will be considered for appointment to three vacancies on the TMAC, the terms of which start in fall/winter 2023. One of these three vacancies, as described below, will be appointed to serve as a Special Government Employee (SGE) as defined in title 18 U.S.C. 202(a) to serve in their individual capacity, while the other two members of the TMAC will be appointed to serve as representative members. The candidate selected for appointment as a SGE will be subject to the Federal conflict of interest laws and standards of conduct regulations and required to file a New Entrant Confidential Disclosure Report (OGE 450). This form can be obtained by visiting the website of the Office of Government Ethics (http://www.oge.gov); please do not submit this form with your application. Qualified applicants will be considered for one or more of the following membership categories with vacancies:

(a) One member of a recognized regional flood and stormwater management organization;

(b) One member (SGE) of a recognized risk management association or organization;

(c) One representative of a recognized professional association or organization representing State geographic information;

Members of the TMAC serve terms of three years. There is no application form. However, applications must include the following information:

• Applicant's full name;

• Home and business phone numbers;

• Preferred email address;

• Home and business mailing addresses;

• Current position title and organization;

• Resume or curriculum vitae; and

• The membership category of interest (e.g., member of a recognized professional association or organization representing flood hazard determination firms).

The TMAC meets as often as needed to fulfill its mission, but not less than twice a year. Members may be reimbursed for travel and per diem incurred in the performance of their duties as members of the TMAC. All travel for TMAC business must be approved in advance by the Designated Federal Officer.

The Department of Homeland Security (DHS) does not discriminate in employment on the basis of race, color, religion, sex, national origin, political affiliation, sexual orientation, gender identity, marital status, disability and genetic information, age, membership in an employee organization, or other non-merit factor. DHS strives to achieve a widely diverse candidate pool for all its recruitment actions. Current DHS and FEMA employees will not be considered for membership. Federally registered lobbyists will not be considered.

Nicholas A. Shufro,
Deputy Assistant Administrator for Risk Management, Federal Insurance and Mitigation Administration, Resilience, Federal Emergency Management Agency.

[FR Doc. 2023-14328 Filed 7-6-23; 8:45 am]

BILLING CODE 9110-12-P